DEPARTMENT OF HEALTH AND HUMAN SERVICES

National Institutes of Health

Center for Scientific Review Amended Notice of Meeting

Notice is hereby given of a change in the meeting of the Chronic Dysfunction and Integrative Neurodegeneration Study Section, June 22, 2023, 9:30 a.m. to June 23, 8:30 p.m., at the National Institutes of Health, Rockledge II, 6701 Rockledge Drive, Bethesda, MD 20892, which was published in the Federal Register on June 01, 2023, 88 FR 35895, Doc 2023-11647.

This meeting is being amended to change the format from Virtual Meeting to Video Assisted Meeting. The meeting is closed to the public.

Dated: June 7, 2023.
Tyeshia M. Roberson-Curtis,
Program Analyst, Office of Federal Advisory Committee Policy.

[FR Doc. 2023-12515 Filed 6-9-23; 8:45 am]

BILLING CODE 4140-01-P